DEPARTMENT OF COMMERCE

International Trade Administration

[A-570-848]

Notice of Extension of the Preliminary Results of New Shipper Antidumping Duty Reviews: Crawfish Tail Meat from the People's Republic of China

AGENCY: Import Administration, International Trade Administration, Department of Commerce.

EFFECTIVE DATE: June 29, 2005.

FOR FURTHER INFORMATION CONTACT: Scot Fullerton at (202) 482-1386 or Bobby Wong at (202) 482-0409; AD/CVD Operations, Office 9, Import Administration, International Trade Administration, U.S. Department of Commerce, 14th Street and Constitution Avenue, NW, Washington, DC 20230.

SUPPLEMENTARY INFORMATION:

Background

The Department of Commerce (the Department) received timely requests from Dafeng Shunli Import & Export Co., Ltd. (Shunli) and Shanghai Blessing Trade Co., Ltd. (Shanghai Blessing) in accordance with 19 CFR 351.214(c), for new shipper reviews of the antidumping duty order on crawfish tail meat from the PRC. See Freshwater Crawfish Tail Meat From the People's Republic of China: Initiation of Antidumping Duty New Shipper Reviews, 69 FR 64028 (November 3, 2004). On October 28, 2004, the Department found that the requests for review with respect to Shunli and Shanghai Blessing met all the regulatory requirements set forth in 19 CFR 351.214(b) and initiated these new shipper antidumping duty reviews covering the period September 1, 2003, through August 31, 2004. Id. On March 23, 2005, the Department extended the time limit for the deadline for issuance of the preliminary results to June 30, 2005, in accordance with section 751(a)(2)(B)(iv) of the Tariff Act of 1930, as amended (the Act), and § 351.214(i)(2) of the Department's regulations. See Notice of Extension of the Preliminary Results of New Shipper Antidumping Duty Reviews: Crawfish Tail Meat from the People's Republic of China 70 FR 14648.

Extension of Time Limits for Preliminary Results

The Act and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)). The Department has deemed it necessary to provide additional time for parties to comment on the Department's bona fide sales analyses prior to the preliminary results. Accordingly, the Department is extending the time limit for the completion of the preliminary results until no later than August 23, 2005, in accordance with section 751(a)(2)(B)(iv) of the Act and 19 CFR 351.214(i)(2). The deadline for the final results of this administrative review continues to be 90 days after the publication of the preliminary results, unless extended.

Dated: June 23, 2005.
Barbara E. Tillman,
Acting Deputy Assistant Secretary for Import Administration.

[FR Doc. E5-3392 Filed 6-28-05; 8:45 am]

BILLING CODE 3510-DS-S